DEPARTMENT OF HOMELAND SECURITY

Federal Emergency Management Agency

[Docket ID FEMA-2022-0002; Internal Agency Docket No. FEMA-B-2220]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Santa Cruz | Unincorporated areas of Santa Cruz County (21-09-1274P). | The Honorable Manuel Ruiz, Chairman, Santa Cruz County Board of Supervisors, 2150 North Congress Drive, Suite 119, Nogales, AZ 85621. | Santa Cruz County Complex, 2150 North Congress Drive, Suite 116, Nogales, AZ 85621. | https://msc.fema.gov/portal/advanceSearch. | Jun. 21, 2022 | 040090
Colorado:
Douglas | Town of Castle Rock (21-08-1028P). | The Honorable Jason Gray, Mayor, Town of Castle Rock, 100 North Wilcox Street, Castle Rock, CO 80104. | Stormwater Department, 175 Kellogg Court, 100 North Wilcox Street, Castle Rock, CO 80104. | https://msc.fema.gov/portal/advanceSearch.fxsp0;msc.fema.gov/portal/advanceSearch. | Jun. 10, 2022 | 080050
Douglas | Unincorporated areas of Douglas County (21-08-1028P). | The Honorable Lora Thomas, Chair, Douglas County Board of Commissioners, 100 3rd Street, Castle Rock, CO 80104. | Douglas County Department of Public Works, Engineering Division, 100 3rd Street, Castle Rock, CO 80104. | https://msc.fema.gov/portal/advanceSearch.fxsp0;msc.fema.gov/portal/advanceSearch. | Jun. 10, 2022 | 080049
Jefferson | Unincorporated areas of Jefferson County (21-08-0517P). | The Honorable Lesley Dahlkemper, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch.fxsp0;msc.fema.gov/portal/advanceSearch. | Jun. 10, 2022 | 080087
Florida:
Charlotte | Unincorporated areas of Charlotte County (22-04-0620P). | The Honorable Bill Truex, Chairman, Charlotte County Board of Commissioners, 18500 Murdock Circle, Suite 536, Port Charlotte, FL 33948. | Charlotte County Community Development Department, 18400 Murdock Circle, Port Charlotte, FL 33948. | https://msc.fema.gov/portal/advanceSearch.fxsp0;msc.fema.gov/portal/advanceSearch. | Jun. 21, 2022 | 120061
Manatee | Unincorporated areas of Manatee County (21-04-2678P). | The Honorable Vanessa Baugh, Chair, Manatee County Board of Commissioners, 1112 Manatee Avenue West, Bradenton, FL 34205. | Manatee County Building and Development Services Department, 1112 Manatee Avenue West, Bradenton, FL 34205. | https://msc.fema.gov/portal/advanceSearch.fxsp0;msc.fema.gov/portal/advanceSearch. | May 26, 2022 | 120153
Polk | Unincorporated areas of Polk County (21-04-4272P). | Mr. Bill Beasley, Polk County Manager, 330 West Church Street, Bartow, FL 33831. | Polk County Land Development Division, 330 West Church Street, Bartow, FL 33831. | https://msc.fema.gov/portal/advanceSearch.fxsp0;msc.fema.gov/portal/advanceSearch. | Jun. 9, 2022 | 120261
Sarasota | City of Sarasota (21-04-5582P). | The Honorable Erik Arroyo, Mayor, City of Sarasota, 1565 1st Street, Room 101, Sarasota, FL 34236. | Development Services Department, 1565 1st Street, Sarasota, FL 34236. | https://msc.fema.gov/portal/advanceSearch.fxsp0;msc.fema.gov/portal/advanceSearch. | Jun. 10, 2022 | 125150
Volusia | City of Port Orange (21-04-3762P). | Mr. Wayne Clark, Manager, City of Port Orange, 1000 City Center Circle, Port Orange, FL 32129. | Community Development Department, 1000 City Center Circle, Port Orange, FL 32129. | https://msc.fema.gov/portal/advanceSearch.fxsp0;msc.fema.gov/portal/advanceSearch. | Jun. 10, 2022 | 120313
Volusia | Unincorporated areas of Volusia County (21-04-3762P). | Mr. George Recktenwald, Manager, Volusia County, 123 West Indiana Avenue, DeLand, FL 32720. | Volusia County Growth and Resource Management Department, 123 West Indiana Avenue, DeLand, FL 32720. | https://msc.fema.gov/portal/advanceSearch.fxsp0;msc.fema.gov/portal/advanceSearch. | Jun. 10, 2022 | 125155
Georgia: Richmond | City of Augusta (20-04-6164P). | The Honorable Hardie Davis, Jr., Mayor, City of Augusta, 535 Telfair Street, Suite 200, Augusta, GA 30901. | Planning and Development Department, 535 Telfair Street, Suite 200, Augusta, GA 30901. | https://msc.fema.gov/portal/advanceSearch.fxsp0;msc.fema.gov/portal/advanceSearch. | Jun. 6, 2022 | 130158
Louisiana: Lafayette | City of Lafayette (21-06-3367P). | The Honorable Josh Guillory, Mayor-President, Lafayette Consolidated Government, P.O. Box 4017-C, Lafayette, LA 70502. | Department of Community Development and Planning, 220 West Willow Street, Building B, Lafayette, LA 70501. | https://msc.fema.gov/portal/advanceSearch.fxsp0;msc.fema.gov/portal/advanceSearch. | May 13, 2022 | 220105
Maine: York | Town of Lyman (21-01-0760P). | The Honorable William Single, Chairman, Town of Lyman Board of Selectmen, 11 South Waterboro Road, Lyman, ME 04002. | Town Hall, 11 South Waterboro Road, Lyman, ME 04002. | https://msc.fema.gov/portal/advanceSearch.fxsp0;msc.fema.gov/portal/advanceSearch. | May 26, 2022 | 230195
Massachusetts: Essex | City of Lynn (21-01-1255P). | The Honorable Thomas M. McGee, Mayor, City of Lynn, 3 City Hall Square, Room 306, Lynn, MA 01901. | Building Department, 3 City Hall Square, Lynn, MA 01901. | https://msc.fema.gov/portal/advanceSearch.fxsp0;msc.fema.gov/portal/advanceSearch. | May 10, 2022 | 250088
Nevada: Clark | City of Henderson (21-09-1537P). | Mr. Richard Derrick, Manager, City of Henderson, 240 South Water Street, Henderson, NV 89015. | City Hall, 240 South Water Street, Henderson, NV 89015. | https://msc.fema.gov/portal/advanceSearch.fxsp0;msc.fema.gov/portal/advanceSearch. | Jun. 10, 2022 | 320005
Pennsylvania: Montgomery | Township of Upper Merion (21-03-1078P). | Mr. Anthony Hamaday, Manager, Township of Upper Merion, 175 West Valley Forge Road, King of Prussia, PA 19406. | Public Works Department, 175 West Valley Forge Road, King of Prussia, PA 19406. | https://msc.fema.gov/portal/advanceSearch.fxsp0;msc.fema.gov/portal/advanceSearch. | May 16, 2022 | 420957
Texas:
Brazoria | City of Sweeny (21-06-0575P). | The Honorable Jeff Farley, Mayor, City of Sweeny, P.O. Box 248, Sweeny, TX 77480. | City Hall, 102 West Ashley Wilson Road, Sweeny, TX 77480. | https://msc.fema.gov/portal/advanceSearch.fxsp0;msc.fema.gov/portal/advanceSearch. | Jun. 16, 2022 | 485512
Brazoria | Unincorporated areas of Brazoria County (21-06-0575P). | The Honorable L.M. “Matt” Sebesta, Jr., Brazoria County Judge, 111 East Locust Street, Angleton, TX 77515. | Brazoria County West Annex Building, 451 North Velasco Street, Suite 210, Angleton, TX 77515. | https://msc.fema.gov/portal/advanceSearch.fxsp0;msc.fema.gov/portal/advanceSearch. | Jun. 16, 2022 | 485458
Kerr | City of Kerrville (21-06-1566P). | The Honorable Bill Blackburn, Mayor, City of Kerrville, 701 Main Street, Kerrville, TX 78028. | Engineering Department, 200 Sidney Baker Street, Kerrville, TX 78028. | https://msc.fema.gov/portal/advanceSearch.fxsp0;msc.fema.gov/portal/advanceSearch. | Jun. 3, 2022 | 480420
Kerr | Unincorporated areas of Kerr County (21-06-1566P). | The Honorable Rob Kelly, Kerr County Judge, 700 East Main Street, Kerrville, TX 78028. | Kerr County Engineering Department, 3766 State Highway 27, Kerrville, TX 78028. | https://msc.fema.gov/portal/advanceSearch.fxsp0;msc.fema.gov/portal/advanceSearch. | Jun. 3, 2022 | 480419
Virginia: Independent City | City of Winchester (21-03-0399P). | The Honorable John D. Smith, Jr., Mayor, City of Winchester, 15 North Cameron Street, Winchester, VA 22601. | City Hall, 15 North Cameron Street, Winchester, VA 22601. | https://msc.fema.gov/portal/advanceSearch.fxsp0;msc.fema.gov/portal/advanceSearch. | May 11, 2022 | 510173

[FR Doc. 2022-04902 Filed 3-7-22; 8:45 am]

BILLING CODE 9110-12-P